DEPARTMENT OF HOMELAND SECURITY

Coast Guard

33 CFR Part 117

[Docket No. USCG-2017-0844]

Drawbridge Operation Regulation; Carquinez Strait, Martinez, CA

AGENCY: Coast Guard, DHS.

ACTION: Notice of deviation from drawbridge regulation.

SUMMARY: The Coast Guard has issued a temporary deviation from the operating schedule that governs the Union Pacific Railroad Drawbridge across the Carquinez Strait, mile 7.0, at Martinez, CA. The deviation is necessary to allow advance notification for openings due to mechanical issues at the bridge and to conduct repairs to resolve said issues. This deviation requires the bridge to open on signal if at least 30 minutes notice is given to the bridge operator from approaching vessels and allows the bridge to remain in the closed-to-navigation during operating equipment replacement.

DATES: This deviation is effective without actual notice from September 12, 2017 through 5 p.m. on September 19, 2017. For the purposes of enforcement, actual notice will be used from September 6, 2017 until September 12, 2017.

ADDRESSES: The docket for this deviation, USCG-2017-0844 is available at http://www.regulations.gov. Type the docket number in the “SEARCH” box and click “SEARCH.” Click on Open Docket Folder on the line associated with this deviation.

FOR FURTHER INFORMATION CONTACT: If you have questions on this temporary deviation, call or email Carl T. Hausner, Chief, Bridge Section, Eleventh Coast Guard District; telephone 510-437-3516; email Carl.T.Hausner@uscg.mil.

SUPPLEMENTARY INFORMATION: The Coast Guard has recommended and the Union Pacific Railroad Company has agreed to a temporary change in the operation of the Union Pacific Railroad Drawbridge, over the Carquinez Strait, mile 7.0, at Martinez, CA. The drawbridge navigation span provides a vertical clearance of 70 feet above Mean High Water in the closed-to-navigation position. The draw operates as required by 33 CFR 117.5. Navigation on the waterway is commercial and recreational.

Due to bridge operating equipment issues, the bridge will open on signal if at least 30 minutes notice is given to the bridge operator from 12 p.m. on August 25, 2017 through 10 a.m. on September 19, 2017. The drawspan will be secured in the closed-to-navigation position from 10 a.m. through 5 p.m. on September 19, 2017, to allow the bridge owner to replace the defective equipment. This temporary deviation has been coordinated with the waterway users. No objections to the proposed temporary deviation were raised. Vessels able to pass through the bridge in the closed position may do so at anytime. From 10 a.m. through 5 p.m. on September 19, 2017, the bridge will not be able to open for emergencies and there is no immediate alternate route for vessels to pass. The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: September 6, 2017.
Carl T. Hausner,
District Bridge Chief, Eleventh Coast Guard District.

[FR Doc. 2017-19254 Filed 9-11-17; 8:45 am]

BILLING CODE 9110-04-P